DEPARTMENT OF AGRICULTURE

Forest Service

Boundary Establishment for North Umpqua National Wild and Scenic River, Umpqua National Forest, Douglas County, OR

AGENCY: Forest Service, USDA.

ACTION: Notice of availability.

SUMMARY: The USDA Forest Service, Washington Office, is transmitting the final boundary of the North Umpqua National Wild and Scenic River to Congress.

FOR FURTHER INFORMATION CONTACT: Jamie Stone, Umpqua National Forest, 2900 NW. Stewart Parkway, Roseburg, Oregon 97470, phone 541-672-3293.

SUPPLEMENTARY INFORMATION: The North Umpqua Wild and Scenic River boundary is available for review at the following offices: USDA Forest Service, Recreation, Yates Building 14th and Independence Avenues SW., Washington, DC 20024; Pacific Northwest Regional Office, 333 SW. First Avenue, Portland, Oregon 97204; and Umpqua National Forest, 2900 NW. Stewart Parkway, Roseburg, Oregon 97470.

The Omnibus Oregon Wild and Scenic Rivers Act (Public Law 100-577) of October 28, 1988, designated the North Umpqua River, Oregon, as a National Wild and Scenic River, to be administered by the Secretary of Agriculture. The final decision on delineation of a river corridor boundary is based on the North Umpqua Wild and Scenic River Decision Notice and Environmental Assessment dated July 28, 1992. Unless changed by Congress, the boundary decision will be implemented ninety days after Congress receives the transmittal.

Dated: November 28, 2000.
Nancy Graybeal,
Deputy Regional Forester.

[FR Doc. 00-30755 Filed 12-1-00; 8:45 am]

BILLING CODE 3410-11-M